DEPARTMENT OF ENERGY

Federal Energy Regulatory Commission

[Project No. 14775-005]

Marine Renewable Energy Collaborative of New England; Notice of Application Tendered and Accepted for Filing; Soliciting Motions To Intervene and Protests; Ready for Environmental Analysis; Soliciting Comments, Recommendations, Terms and Conditions, and Fishway Prescriptions; Waiving the Timing Requirement for Filing Competing Development Applications; and Intent To Prepare Environmental Assessment

Take notice that the following application has been filed with the Commission and is available for public inspection.

a. Type of Application: Hydrokinetic Pilot Project License.

b. Project No.: 14775-005.

c. Date Filed: June 1, 2023.

d. Applicant: Marine Renewable Energy Collaborative of New England.

e. Name of Project: Bourne Tidal Hydrokinetic Test Site Project.

f. Location: In the Cape Cod Canal near the Town of Bourne, in Barnstable County, MA. The project would occupy land administered by the U.S. Army Corps of Engineers (Corps) and would be within the boundary of the Corps' Cape Cod Canal Navigation Project.

g. Filed Pursuant to: Federal Power Act 16 U.S.C. 791 (a)-825(r).

h. Applicant Contact: Stephen Barrett, Barrett Energy Resources Group, LLC, P.O. Box 1004, Concord, MA 01742; Phone at (339) 234-2696; email at steve@barrettenergygroup.com.

i. FERC Contact: Robert Haltner at (202) 502-8612 or email at robert.haltner@ferc.gov.

j. Deadline for filing motions to intervene and protests, comments, recommendations, terms and conditions, and prescriptions: 30 days from the issuance date of this notice; reply comments are due 60 days from the issuance date of this notice.

The Commission strongly encourages electronic filing. Please file motions to intervene, protests, comments, recommendations, terms and conditions, and fishway prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Bourne Tidal Hydrokinetic Project (P-14775-005).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis. Based on the information in the project record, staff does not anticipate that licensing the project would constitute a major federal action significantly affecting the quality of the human environment. Therefore, staff intends to prepare an Environmental Assessment (EA) on the application. The EA will be issued and circulated for public review. Comments filed on the EA will be analyzed by staff and considered in the Commission's final licensing decision.

l. The proposed Bourne Tidal Hydrokinetic Project would consist of: (1) an existing 56.2-foot-high, 23-foot-wide steel support structure comprising a platform mounted to three piles embedded in the Cape Cod Canal; (2) an existing vertical turbine mounting pole that is attached to the platform and equipped with an electric lift; (3) a tidal turbine-generator unit that would have a maximum installed capacity of 50 kilowatts (kW); (4) a 50-kW inverter that would be located on the support structure and used to convert the generated power from Direct Current to Alternating Current; (5) an approximately 775-foot-long, 13.2-kilovolt overhead transmission line that would connect the project to the regional grid; (6) an onshore station consisting of a 20-foot-long, 8-foot-wide modular steel structure that would house power control and data management equipment; and (7) appurtenant facilities. A variety of turbine-generator units would be tested at the project, but only one will be tested at a time.

m. A copy of the application may be viewed on the Commission's website at (https://www.ferc.gov) using the “eLibrary” link. Enter the docket number, excluding the last three digits, in the docket number field to access the document. At this time, the Commission has suspended access to the Commission's Public Reference Room. For assistance, contact FERC Online Support at FERCOnlineSupport@ferc.gov or call toll-free, (886) 208-3676 or TTY, (202) 502-8659.

Register online at http://www.ferc.gov/docs-filing/esubscription.asp to be notified via email of new filings and issuances related to this or other pending projects. For assistance, contact FERC Online Support.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST”, “MOTION TO INTERVENE”, “COMMENTS,” “REPLY COMMENTS,” “RECOMMENDATIONS,” “TERMS AND CONDITIONS,” or ” FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural Schedule: The application will be processed according to the following schedule. Revisions to the schedule may be made as appropriate.

Milestone | Target date
Filing of recommendations, preliminary terms and conditions, and preliminary fishway prescriptions | July 16, 2023.
Filing of response comments | August 15, 2023.
Commission issues EA | September 2023.
Comments on EA | October 2023.

p. Waiver of deadline to file competing applications filed pursuant to a notice of intent (NOI): Any qualified applicant desiring to file a competing application must submit to the Commission, on or before the specified intervention deadline date, a competing development application or an NOI to file such an application. Section 4.36(b)(2) of the Commission's regulations, which allows 120 days from the specified intervention deadline date for interested parties to file competing development applications in which timely NOIs have been submitted, is hereby waived. Due to the expedited nature of the pilot project licensing procedures, an interested person who submits a timely NOI must file the competing development application no later than 30 days after the specified intervention deadline date. Applications for preliminary permits will not be accepted in response to this notice.

An NOI must specify the exact name, business address, and telephone number of the prospective applicant, and must include an unequivocal statement of intent to submit a development application. An NOI must be served on the applicant named in this public notice.

Dated: June 16, 2023.
Kimberly D. Bose,
Secretary.

[FR Doc. 2023-13381 Filed 6-22-23; 8:45 am]

BILLING CODE 6717-01-P